DEPARTMENT OF VETERANS AFFAIRS

Notice of Intent To Grant Exclusive License

AGENCY: Department of Veterans Affairs, Research and Development Office.

ACTION: Notice of intent.

SUMMARY: Notice is hereby given that the Department of Veterans Affairs, Research and Development Office, intends to grant to 21st Century Medicine, Inc., 10844 Edison Court, Rancho Cucamonga, California, 91730, U.S.A., an exclusive license to practice U.S. Patent Application Number 09/546,860, filed Apr. 10, 2000, entitled Compositions and Methods for Tissue Preservation; and International Patent Application Number PCT/US01/11834 (WO 01/76364 A2), filed Apr. 10, 2001, entitled Composition and Methods for Tissue Preservation.

DATES: Comments must be received within fifteen (15) days from the date of this published Notice.

ADDRESSES: Send comments to: Mindy Aisen, MD, Director of Technology Transfer, Department of Veterans Affairs; Attn: 122; 810 Vermont Avenue NW., Washington, DC 20420. Telephone: (202) 408-3670; Facsimile: (202) 275-7228; e-mail: mindy.aisen@mail.va.gov.

FOR FURTHER INFORMATION CONTACT: Copies of the published patent applications may be obtained from the U.S. Patent and Trademark Office at www.uspto.gov.

SUPPLEMENTARY INFORMATION: It is in the public interest to so license these inventions as 21st Century Medicine, Inc., submitted a complete and sufficient application for a license. The prospective exclusive license will be royalty-bearing and will comply with the terms and conditions of 35 U.S.C. 209 and 37 CFR 404.7. The prospective exclusive license may be granted unless, within fifteen (15) days from the date of this published Notice, the Department of Veterans Affairs Research and Development Office receives written evidence and argument which establishes that the grant of the license would not be consistent with the requirements of 35 U.S.C. 209 and 37 CFR 404.7.

Dated: August 14, 2002.
Anthony J. Principi,
Secretary, Department of Veterans Affairs.

[FR Doc. 02-21367 Filed 8-21-02; 8:45 am]

BILLING CODE 8320-01-P